DEPARTMENT OF ENERGY

Federal Energy Regulatory Commission

[Docket No. EC04-18-000, et al.]

Alfalfa Electric Cooperative, Inc., et al.; Electric Rate and Corporate Filings

November 19, 2003.

The following filings have been made with the Commission. The filings are listed in ascending order within each docket classification.

1. Alfalfa Electric Cooperative, Inc., Choctaw Electric Cooperative, Inc., People's Electric Cooperative

[Docket Nos. EC04-18-000 and EL04-18-000]

Take notice that on November 12, 2003, Alfalfa Electric Cooperative, Inc. (AEC), Choctaw Electric Cooperative, Inc. (CEC), and People's Electric Cooperative (PEC) (collectively, the Cooperatives) filed with the Federal Energy Regulatory Commission (the Commission) a petition for declaratory order pursuant to Rule 207(a)(2) of the Commission's Rules of Practice and Procedure, 18 CFR 385.207(a)(2) (2003), disclaiming jurisdiction under section 201 of the Federal Power Act (FPA), 16 U.S.C. 824(e) (2000). The Cooperatives state that they are seeking a disclaimer of jurisdiction over the passive investors, including owner lessors, owner participants, and managers or owner trustees (collectively, Passive Participants) in a lease and leaseback transaction (the Transaction) involving bulk electric distribution systems owned by the Cooperatives and including transmission facilities owned by PEC and wholesale distribution facilities owned by AEC (PEC's transmission facilities and AEC's wholesale distribution facilities are collectively the Jurisdictional Facilities.). The Cooperatives also petitioned the Commission to authorize the lease and leaseback of the Jurisdictional Facilities pursuant to section 203 of the FPA

The Cooperatives request that the Commission issue the requested declaratory order by December 19, 2003.

Comment Date: December 3, 2003.

2. Lake Road Trust Ltd. Lake Road Generating Company, L.P., Lake Road Holding Company LLC, Lake Road GP Company LLC

[Docket No. EC04-19-000]

Take notice that on November 12, 2003, Lake Road Trust Ltd. and Lake Road Generating Company, L.P. (together, the Lake Road Parties) and Lake Road Holding Company LLC and Lake Road GP Company LLC (collectively, Applicants) filed with the Federal Energy Regulatory Commission an application pursuant to section 203 of the Federal Power Act for authorization to transfer certain jurisdictional facilities held by the Lake Road Parties to the lenders, interest hedge providers and investors of the Lake Road Parties. Applicants seek expedited review of the application and request confidential treatment of certain documents submitted therewith.

The Applicants state that a copy of the application was served upon the Connecticut Department of Public Utility Control.

Comment Date: December 2, 2003.

3. Dominion Nuclear Marketing I, Inc., Dominion Nuclear Marketing II, Inc., Dominion Nuclear Connecticut, Inc., and Dominion Energy Marketing, Inc.

[Docket Nos. EC04-20-000 and ER04-189-000]

Take notice that on November 12, 2003, Dominion Nuclear Marketing I, Inc. (DNM I), Dominion Nuclear Marketing II, Inc. (DNM II), Dominion Nuclear Connecticut, Inc. (DNC) and Dominion Energy Marketing, Inc. (DEMI) filed an application pursuant to section 203 of the Federal Power Act, for an order authorizing the proposed internal corporate reorganization pursuant to which DNM I and DNM II's interest in DNC will be transferred to DEMI and DNM I and DNM II's market-based rate schedules shall be cancelled.

Comment Date: December 3, 2003.

4. Union Electric Company d/b/a AmerenUE and Central Illinois Public Service Company d/b/a AmerenCIPS

[Docket No. EC04-21-000]

Take notice that on November 12, 2003, Union Electric Company d/b/a AmerenUE (AmerenUE) and Central Illinois Public Service Company d/b/a AmerenCIPS (AmerenCIPS) (collectively, AmerenUE and AmerenCIPS are referred to as Applicants), submitted an application pursuant to section 203 of the Federal Power Act, and Part 33 of the Federal Energy Regulatory Commission (Commission) regulations, 18 CFR Part 33, requesting all Commission authorizations and approvals necessary for AmerenUE to sell and transfer, and for AmerenCIPS to purchase and accept, certain jurisdictional assets now owned by AmerenUE.

Applicants state that copies of this filing have been served on all affected state commissions and also parties to contracts affected by the transfer.

Comment Date: December 3, 2003.

5. Covanta Energy Corporation Covanta Fairfax, Inc. Covanta Haverhill Associates Covanta Union, Inc. Covanta Onondaga, Limited Partnership

[Docket No. EC04-22-000]

Take notice that on November 13, 2003 Covanta Energy Corporation (Covanta), Covanta Fairfax, Inc., Covanta Haverhill Associates, Covanta Union, Inc. and Covanta Onondaga, Limited Partnership (collectively, the Applicants) filed with the Federal Energy Regulatory Commission an application pursuant to section 203 of the Federal Power Act for authorization to indirectly dispose of jurisdictional facilities through a change of control transaction that has been proposed as part of Covanta's plan of reorganization filed with the U.S. Bankruptcy Court for the Southern District of New York.

Applicants respectfully request that the Commission approve this transfer on an expedited basis and no later than December 19, 2003.

Comment Date: December 4, 2003.

6. FirstEnergy Corp. and its Public Utility Subsidiaries NRG Energy, Inc. and its Public Utility Subsidiaries

[Docket No. EC04-23-000]

Take notice that on November 14, 2003, FirstEnergy Corp. and its public utility subsidiaries (FirstEnergy) and NRG Energy, Inc. and its public utility subsidiaries (NRG) (collectively Applicants) filed with the Federal Energy Regulatory Commission an application pursuant to section 203 of the Federal Power Act for authorization for FirstEnergy to acquire certain debt and common equity securities of NRG as a means of settling outstanding claims against NRG, and for authorization for FirstEnergy to dispose of such securities as soon as possible thereafter in light of market conditions. Applicants state that if a Settlement Agreement is approved, FirstEnergy will be entitled to receive approximately 6.5% of the common stock of NRG and approximately $30 million of NRG Senior Notes.

Comment Date: December 5, 2003.

7. H.Q. Energy Services (U.S.) Inc.

[Docket No. ER97-851-013]

Take notice that on November 12, 2003, H.Q. Energy Services (U.S.) Inc. (HQUS) tendered for filing an updated market power study and Change in Status Report pursuant to the Commission's order in H.Q. Energy Services (U.S.) Inc., 81 FERC ¶ 61,184 (1997). The HQUS states that its submission demonstrates that HQUS continues to satisfy the Commission's requirements for authority to sell power at market-based rates.

Comment Date: December 3, 2003.

8. Midwest Independent Transmission System Operator, Inc.

[ Docket No. ER03-986-002]

Take notice that on November 12, 2003, the Midwest Independent Transmission System Operator, Inc. (Midwest ISO) submitted for filing a revised Interconnection and Operating Agreement among Montana-Dakota Utilities Co., a Division of MDU Resources Group, Inc. (Transmission), the Midwest ISO and Montana-Dakota Utilities Co., a Division of MDU Resources Group, Inc. (Generation) pursuant to Section 205 of the Federal Power Act and Section 35.13 of the Commission's regulations, 18 CFR 35.13 (2002).

The Midwest ISO requests an effective date of June 17, 2003.

The Midwest ISO states it has served all parties listed on the official service list maintained by the Secretary in this proceeding. In addition, the filing has been electronically posted on the Midwest ISO's website at http://www.midwestiso.org under the heading “Filings to FERC” for other interested parties in this matter. The Midwest ISO further states it will provide hard copies to any interested parties upon request.

Comment Date: December 3, 2003.

9. Kansas City Power & Light Company

[Docket No. ER03-997-001]

Take notice that on November 12, 2003, Kansas City Power & Light Company (KCPL) submitted for filing its proposed procedures regarding the dispute between KCPL and the City of Independence, Missouri regarding an agreement filed under KCPL's Market-Based Rate Tariff providing for the sale of 90 MW of capacity from KCPL to the City of Independence.

Comment Date: December 3, 2003.

10. Northeast Utilities Service Company

[Docket No. ER03-1247-001]

Take notice that on November 12, 2003, Northeast Utilities Service Company, on behalf of its affiliates, The Connecticut Light and Power Company, Western Massachusetts Electric Company, Holyoke Power Company, Holyoke Water Power Company, and Public Service Company of New Hampshire (collectively, NU Companies), submitted First Revised Sheet No. 29 superseding Original Sheet No. 29 of the NU Companies' Open-Access Transmission Tariff for local network service, FERC Electric Tariff Original Volume No. 10, in compliance with the Commission's October 22, 2003 Order Accepting and Suspending Revised Open Access Transmission Tariff, and Establishing Hearing and Settlement Judge Procedures, Northeast Utilities Service Company, 105 FERC ¶ 61,089 (2003).

Comment Date: December 3, 2003.

11. Entergy Services, Inc.

[Docket No. ER03-1272-001]

Take notice that on November 12, 2003, Entergy Services, Inc., on behalf of Entergy Arkansas, Inc., Entergy Gulf States, Inc., Entergy Louisiana, Inc., Entergy Mississippi, Inc., and Entergy New Orleans, Inc., (collectively, Entergy) filed an amendment to its filing in the above-captioned proceeding in response to the Commission's October 22, 2003 Letter Order. Entergy states that the amendment and original filing address proposed revisions to the Entergy Open Access Transmission Tariff, FERC Electric Tariff Second Revised Volume No. 3, designed to implement an Available Flowgate Capability process for evaluating short-term transmission service requests.

Comment Date: December 3, 2003.

12. Midwest Independent Transmission System Operator, Inc.

[ Docket No. ER03-1260-001]

Take notice that on November 12, 2003, the Midwest Independent Transmission System Operator, Inc. (Midwest ISO) submitted for filing a second revised Interconnection and Operating Agreement among GM Transmission, LLC, the Midwest ISO and Northern States Power Company d/b/a Xcel Energy pursuant to Section 205 of the Federal Power Act and Section 35.13 of the Commission's regulations, 18 CFR 35.13. The Midwest ISO requests an effective date of September 1, 2002.

The Midwest ISO states it has served all parties listed on the official service list maintained by the Secretary in this proceeding. In addition, the filing has been electronically posted on the Midwest ISO's website at http://www.midwestiso.org under the heading “Filings to FERC” for other interested parties in this matter. The Midwest ISO further states that it will provide hard copies to any interested parties upon request.

Comment Date: December 3, 2003.

13. Northern/AES Energy, LLC

[Docket No. ER04-102-001]

Take notice that on November 12, 2003, Northern/AES Energy LLC (Northern) tendered for filing an amendment to the Notice of Cancellation filed on October 29, 2003 in Docket No. ER04-102-000.

Comment Date: December 3, 2003.

14. Union Electric Development Corporation

[Docket No. ER04-104-001]

Take notice that on November 13, 2003, Union Electric Development Corporation (UEDC) submitted for filing a Notice of Cancellation of its FERC Electric Tariff, Original Volume No. 1. UEDC asserts that the purpose of the filing is to cancel its market-based authority granted in Docket No. ER97-3663-000.

Comment Date: December 4, 2003.

15. KeySpan Generation LLC

[Docket No. ER04-112-001]

Take notice that on November 13, 2003, KeySpan Generation LLC submitted for filing an amendment to their October 30, 2003 filing in Docket No. ER04-112-000.

Comment Date: November 21, 2003.

16. New York Independent System Operator, Inc.

[Docket No. ER04-186-000]

Take notice that on November 12, 2003, the New York Independent System Operator, Inc. (NYISO), filed proposed revisions to the Independent System Operator Agreement. NYISO states that the proposed revisions would amend the Independent System Operator Agreement to allow two individuals to be elected to the position of chairperson or vice-chairperson of the Management Committee.

The NYISO states it has served a copy of this filing to all parties that have executed Service Agreements under the NYISO's OATT or Services Tariff, the New York State Public Services Commission and to the electric utility regulatory agencies in New Jersey and Pennsylvania.

Comment Date: December 3, 2003.

17. North Jersey Energy Associates, A Limited Partnership

[ Docket No. ER04-187-000]

Take notice that on November 12, 2003, North Jersey Energy Associates, A Limited Partnership (NJEA) petitioned the Commission to: (1) accept for filing NJEA's FERC Electric Tariff (Tariff) and grant NJEA the blanket authority to make market-based sales of energy, capacity and ancillary services under its Tariff; (2) accept for filing NJEA's Amended and Restated Power Purchase Agreement; (3) grant NJEA such waivers and authorizations as have been granted by the Commission to other entities authorized to transact at market-based rates; and (4) grant NJEA a waiver of the 60-day and 120-day notice requirements in section 35.3 of the Commission's regulations, 18 CFR 35.3, to the extent necessary to permit this filing to become effective conditioned on and as of the future date that NJEA notifies the Commission that it has terminated the Qualifying Facility status of its 300 MW natural gas-fired electricity and steam enerating facility in the borough of Sayreville, New Jersey.

Comment Date: December 3, 2003.

18. Delmarva Power & Light Company

[Docket No. ER04-188-000]

Take notice that on November 12, 2003, Delmarva Power & Light Company (Delmarva) tendered for filing a Notice of Cancellation and an Order No. 614 compliant cancelled rate schedule sheet (collectively referred to as Cancellation Documents) terminating the rate schedule between Delmarva and the Delaware City of Lewes (the Lewes Rate Schedule). Delmarva also tendered for filing a new executed Interconnection Agreement with the City of Lewes (Lewes IA).

Delmarva requests that the Commission allow the Cancellation Documents to become effective on December 31, 2003, the date that the Lewes Rate Schedule terminates as of its own terms. Delmarva further requests that the Commission allow the Lewes IA to become effective on January 1, 2004, the first date on which interconnection service will no longer be provided as part of the bundled service provided under the Lewes Rate Schedule.

Delmarva states that copies of the filing were served upon the City of Lewes and the Delaware Public Service Commission.

Comment Date: December 3, 2003.

19. Alan J. Fohrer

[Docket No. ID-3949-000]

Take notice that on October 8, 2003, Alan J. Fohrer submitted for filing an application for authorization under section 305(b) of the Federal Power Act to hold the following positions: Director and Chief, California Edison Company, Executive Officer, Director, Duratek, Inc.

Comment Date: December 10, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00391 Filed 11-25-03; 8:45 AM]

BILLING CODE 6717-01-P